DEPARTMENT OF COMMERCE

International Trade Administration

[C-552-805]

Polyethylene Retail Carrier Bags From the Socialist Republic of Vietnam: Final Results of Expedited Second Sunset Review of the Countervailing Duty Order

AGENCY: Enforcement and Compliance, International Trade Administration, Department of Commerce.

SUMMARY: As a result of this sunset review, the Department of Commerce (Commerce) finds that revocation of the countervailing duty (CVD) order on polyethylene retail carrier bags (PRCBs) from the Socialist Republic of Vietnam (Vietnam) would be likely to lead to continuation or recurrence of countervailable subsidies at the levels indicated in the “Final Results of Review” section of this notice.

DATES: Applicable August 10, 2021.

FOR FURTHER INFORMATION CONTACT: Daniel Alexander, AD/CVD Operations, Office VII, Enforcement and Compliance, International Trade Administration, U.S. Department of Commerce, 1401 Constitution Avenue NW, Washington, DC 20230; telephone: (202) 482-4313.

SUPPLEMENTARY INFORMATION:

Background

On May 4, 2010, Commerce published its CVD order on PRCBs from Vietnam in the Federal Register.¹ On March 31, 2021, Commerce published the notice of initiation of the second sunset review of the Order, pursuant to section 751(c) of the Tariff Act of 1930, as amended (the Act).² Commerce received a notice of intent to participate from the Polyethylene Retail Carrier Bag Committee (the Committee), an ad hoc association of U.S. producers of PRCBs, within the deadline specified in 19 CFR 351.218(d)(1)(i).³ The Committee claimed interested party status under section 771(9)(E) of the Act, as a trade or business association a majority of whose members manufacture, produce, or wholesale a domestic like product in the United States and stated that each member of the Committee is a manufacturer of the domestic like product and thus, is a domestic interested party pursuant to section 771(9)(C) of the Act.⁴

¹ See Polyethylene Retail Carrier Bags from the Socialist Republic of Vietnam: Countervailing Duty Order, 75 FR 23670 (May 4, 2010) (Order).

² See Initiation of Five-Year (Sunset) Review, 86 FR 16701 (March 31, 2021).

³ See Committee's Letter, “Five-Year (`Sunset') Review the Countervailing Duty Order On Polyethylene Retail Carrier Bags from Vietnam: Domestic Industry Notice Of Intent To Participate In Sunset Review,” dated April 9, 2021.

⁴ Id. The individual members of the Committee are Hilex Poly Co., LLC and Superbag LLC.

Commerce received a substantive response from the Committee ⁵ within the 30-day deadline specified in 19 CFR 351.218(d)(3)(i). We received no substantive responses from the Government of Vietnam or any other domestic or interested parties in this proceeding, nor was a hearing requested.

⁵ See Committee's Letter, “Five-Year (Sunset) Review of the Countervailing Duty Order On Polyethylene Retail Carrier Bags from Vietnam: Domestic Industry Substantive Response,” dated April 28, 2021.

On May 21, 2021, Commerce notified the U.S. International Trade Commission that it did not receive an adequate substantive response from respondent interested parties.⁶ As a result, pursuant to section 751(c)(3)(B) of the Act and 19 CFR 351.218(e)(1)(ii)(C)(2), Commerce conducted an expedited (120-day) sunset review of the Order.

⁶ See Commerce's Letter, “Sunset Reviews for April 2021,” dated May 21, 2021.

Scope of the Order

The scope of this Order covers PRCBs. Imports of merchandise included within the scope of this Order are currently classifiable under statistical category 3923.21.0085 of the Harmonized Tariff Schedule of the United States. For a complete description of the scope of the Order, see the accompanying Issues and Decision Memorandum.⁷

⁷ See Memorandum, “Issues and Decision Memorandum for the Expedited Second Sunset Review of the Countervailing Duty Order on Polyethylene Retail Carrier Bags from the Socialist Republic of Vietnam,” dated concurrently with, and hereby adopted by, this notice (Issues and Decision Memorandum).

Analysis of Comments Received

All issues raised in this sunset review are addressed in the Issues and Decision Memorandum. A list of topics discussed in the Issues and Decision Memorandum is included as an appendix to this notice. The Issues and Decision Memorandum is a public document and is on file electronically via the Enforcement and Compliance's Antidumping and Countervailing Duty Centralized Electronic Service System (ACCESS). ACCESS is available to registered users at http://access.trade.gov. In addition, a complete version of the Issues and Decision Memorandum can be accessed directly on the internet at http://enforcement.trade.gov/frn/.

Final Results of Sunset Review

Pursuant to sections 751(c)(1) and 752(b) of the Act, we determine that revocation of the CVD order on PRCBs from Vietnam would be likely to lead to continuation or recurrence of countervailable subsidies at the following rates:

Producer/exporter | Net countervailable subsidy (percent)
Advance Polybag Co., Ltd | 52.56
Fotai Vietnam Enterprise Corp. and Fotai Enterprise Corporation | 5.28
All Others | 5.28

Administrative Protective Order (APO)

This notice also serves as the only reminder to parties subject to an APO of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing these final results and this notice in accordance with sections 751(c), 752(b), and 777(i)(1) of the Act, and 19 CFR 351.218.

Dated: July 23, 2021.
Christian Marsh,
Acting Assistant Secretary for Enforcement and Compliance.

Appendix—List of Topics Discussed in the Issues and Decision Memorandum

I. Summary

II. Background

III. History of the Order

IV. Scope of the Order

V. Legal Framework

VI. Discussion of the Issues

1. Likelihood of Continuation or Recurrence of a Countervailable Subsidy

2. Net Countervailable Subsidy Rates Likely To Prevail

3. Nature of the Subsidies

VII. Final Results of Sunset Review

VIII. Recommendation

[FR Doc. 2021-16961 Filed 8-9-21; 8:45 am]

BILLING CODE 3510-DS-P